DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before October 16, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by email at PRA@treasury.gov or the entire information collection request may be found at www.reginfo.gov.

SUPPLEMENTARY INFORMATION:

Internal Revenue Service (IRS)

OMB Number: 1545-1241.

Type of Review: Extension without change of a previously approved collection.

Title: TD 8395—Special Valuation Rules.

Abstract: Section 2701 of the Internal Revenue Code allows various elections by family members who make gifts of common stock or partnership interests and retain senior interest. The elections affect the value of the gifted interests and the retained interests. Regulations relating to chapter 14 of the Internal Revenue Code, as enacted in the Omnibus Budget Reconciliation Act of 1990, Public Law 101-508, 104 Stat. 1388, provides special valuation rules for purposes of Federal estate and gift taxes imposed under chapter 1 and 12 of the Code. In addition, these regulations provide rules involving lapsing rights and other transactions that are treated as completed transfers under chapter 14.

Affected Public: Individuals or Households.

Estimated Annual Burden Hours: 496.

OMB Number: 1545-1952.

Type of Review: Extension without change of a previously approved collection.

Title: Revenue Procedure 2005-50—Automatic Consent for Eligible Educational Institution to Change Reporting Methods.

Abstract: This revenue procedure prescribes how an eligible educational institution may obtain automatic consent from the Service to change its method of reporting under section 6050S of the Code and the Income Tax Regulations.

Affected Public: Private Sector: Not-for-profit institutions.

Estimated Annual Burden Hours: 300.

Dated: September 10, 2015.
Dawn D. Wolfgang,
Treasury PRA Clearance Officer.

[FR Doc. 2015-23209 Filed 9-15-15; 8:45 am]

BILLING CODE 4830-01-P